DEPARTMENT OF THE INTERIOR

National Park Service

[NPS-WASO-NAGPRA-NPS0037202; PPWOCRADN0-PCU00RP14.R50000]

Notice of Inventory Completion: Portland State University, Portland, OR

AGENCY: National Park Service, Interior.

ACTION: Notice.

SUMMARY: In accordance with the Native American Graves Protection and Repatriation Act (NAGPRA), Portland State University (PSU) has completed an inventory of human remains and associated funerary objects and has determined that there is a cultural affiliation between the human remains and associated funerary objects and Indian Tribes or Native Hawaiian organizations in this notice. The human remains and associated funerary objects were removed from Clark County, WA, and Columbia County, OR.

DATES: Repatriation of the human remains and associated funerary objects in this notice may occur on or after February 7, 2024.

ADDRESSES: Reno Nims, Portland State University, Research & Graduate Studies, P.O. Box 751, Portland, OR 97207, telephone (503) 725-6611, email nagpra@pdx.edu.

SUPPLEMENTARY INFORMATION: This notice is published as part of the National Park Service's administrative responsibilities under NAGPRA. The determinations in this notice are the sole responsibility of PSU. The National Park Service is not responsible for the determinations in this notice. Additional information on the determinations in this notice, including the results of consultation, can be found in the inventory or related records held by PSU.

Description

Human remains representing, at minimum, three individuals were removed from Lady Island (45-CL-48) in Clark County, WA, by Oregon Archaeological Society members. Radiocarbon dates from the site suggest these individuals may have been buried between 750 cal BCE and 200 cal CE. Unknown individuals donated the human remains to PSU at an unknown date between 1976 and 2011. The 27 associated funerary objects are one wood fragment, one faunal cranium, and 25 obsidian flakes.

Human remains representing, at minimum, 13 individuals were removed from the Herzog site (45-CL-11) in Clark County, WA, in 1965 by PSU under the direction of Thomas Newman, a faculty member in the Anthropology Department. The 20 associated funerary objects are two ceramic sherds, eight nails, three metal spoons, one lot of brick fragments, two lots of wood fragments, three rocks, and one fire-cracked rock.

Human remains representing, at minimum, three individuals were removed from the Meier site (35-CO-5) in Columbia County, OR, between 1987 and 1991, by PSU under the direction of Ken Ames, a faculty member in the Anthropology Department. These human remains were inadvertently excavated from deposits of faunal remains, and subsequently identified as human between 1991 and 1992 during faunal sorting and analysis. Radiocarbon dates and fur trade items from the site suggest these individuals may have been buried between 1000 cal CE and the late 1700s CE. The 15 associated funerary objects are faunal remains.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, and historical information.

Determinations

Pursuant to NAGPRA and its implementing regulations, and after consultation with the appropriate Indian Tribes and Native Hawaiian organizations, PSU has determined that:

• The human remains described in this notice represent the physical remains of 19 individuals of Native American ancestry.

• The 62 objects described in this notice are reasonably believed to have been placed with or near individual human remains at the time of death or later as part of the death rite or ceremony.

• There is a relationship of shared group identity that can be reasonably traced between the human remains and associated funerary objects described in this notice and the Confederated Tribes and Bands of the Yakama Nation; Confederated Tribes of Siletz Indians of Oregon; Confederated Tribes of the Grand Ronde Community of Oregon; Confederated Tribes of the Umatilla Indian Reservation; Confederated Tribes of the Warm Springs Reservation of Oregon; and the Cowlitz Indian Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 7, 2024. If competing requests for repatriation are received, PSU must determine the most appropriate requestor prior to repatriation. Requests for joint repatriation of the human remains and associated funerary objects are considered a single request and not competing requests. PSU is responsible for sending a copy of this notice to the Indian Tribes and Native Hawaiian organizations identified in this notice.

Authority: Native American Graves Protection and Repatriation Act, 25 U.S.C. 3003, and the implementing regulations, 43 CFR 10.9, 10.10, and 10.14.

Dated: December 28, 2023.
Melanie O'Brien,
Manager, National NAGPRA Program.

[FR Doc. 2024-00131 Filed 1-5-24; 8:45 am]

BILLING CODE 4312-52-P